DEPARTMENT OF TRANSPORTATION

Federal Aviation Administration

14 CFR Part 39

[Docket No. FAA-2024-1884; Project Identifier AD-2023-00948-T]

RIN 2120-AA64

Airworthiness Directives; The Boeing Company Airplanes

AGENCY: Federal Aviation Administration (FAA), DOT.

ACTION: Proposed rule; withdrawal.

SUMMARY: The FAA is withdrawing a notice of proposed rulemaking (NPRM) that proposed to supersede Airworthiness Directive (AD) 2023-08-04, which applies to certain The Boeing Company Model 787-8, 787-9, and 787-10 airplanes. The NPRM was prompted by reports of a loss of water pressure during flight and water leaks that affected multiple pieces of electronic equipment, and by the discovery that some clamshell couplings did not have the required safety strap. The NPRM would have required inspecting all door 1 and door 3 lavatory and galley potable water systems for missing or incorrectly installed clamshell couplings, inspecting all clamshell couplings for the presence and correct installation of safety straps at door 1 and door 3 lavatories and galleys with a potable water system, and performing applicable on-condition actions. The NPRM would have also prohibited the installation of affected parts at inspection locations and removed Model 787-10 airplanes from the applicability. Since issuance of the NPRM, the FAA has determined that the identified service information may not adequately address the unsafe condition on one of the galleys, and Model 787-10 airplanes should be included in the applicability. Accordingly, the NPRM is withdrawn.

DATES: As of February 4, 2025, the proposed rule, which was published in the Federal Register on July 15, 2024 (89 FR 57374), is withdrawn.

ADDRESSES: AD Docket: You may examine the AD docket at regulations.gov by searching for and locating Docket No. FAA-2024-1884; or in person at Docket Operations between 9 a.m. and 5 p.m., Monday through Friday, except Federal holidays. The AD docket contains this AD action, any comments received, and other information. The street address for Docket Operations is Docket Operations, M-30, West Building Ground Floor, Room W12-140, 1200 New Jersey Avenue SE, Washington, DC 20590.

FOR FURTHER INFORMATION CONTACT: Courtney Tuck, Aviation Safety Engineer, FAA, 2200 South 216th St., Des Moines, WA 98198; phone: 206-231-3986; email: Courtney.K.Tuck@faa.gov.

SUPPLEMENTARY INFORMATION:

Background

The FAA issued an NPRM to amend 14 CFR part 39 to supersede AD 2023-08-04, Amendment 39-22419 (88 FR 33823, May 25, 2023) (AD 2023-08-04). AD 2023-08-04 applied to certain The Boeing Company Model 787-8, 787-9, and 787-10 airplanes. The NPRM was published in the Federal Register on July 15, 2024 (89 FR 57374). The NPRM was prompted by reports of a loss of water pressure during flight and water leaks that affected multiple pieces of electronic equipment. The NPRM was further prompted by the discovery that some clamshell couplings did not have the required safety strap and by the development of a design solution that replaces the strapless clamshell couplings with clamshell couplings that have safety straps to address the unsafe condition. In the NPRM, the FAA proposed to continue to require inspecting all door 1 and door 3 lavatory and galley potable water systems for missing or incorrectly installed clamshell couplings, and performing applicable on-condition actions. The NPRM also proposed to require inspecting all clamshell couplings for the presence and correct installation of safety straps at door 1 and door 3 lavatories and galleys with a potable water system, and performing applicable on-condition actions. The NPRM would have also prohibited the installation of affected parts at inspection locations and removed Model 787-10 airplanes from the applicability.

The proposed actions were intended to address water leaks and water migration to critical flight equipment, which may affect the continued safe flight and landing of the airplane.

Actions Since the NPRM Was Issued

Since issuance of the NPRM, Boeing advised the FAA that an inspection area is missing from Boeing Alert Requirements Bulletin B787-81205-SB250299-00 RB, Issue 001, dated July 31, 2023(as specified in paragraph (j) of the proposed AD). As a result, the NPRM may not adequately address the unsafe condition on one of the galleys. Specifically, Task 3, Figure 10, needs to be updated to add an inspection area to the FWD galley located at Door 1. According to Boeing, the current figure specifies inspection of only Detail K, the area above the galley carts, so Detail L will be added in a revised requirements bulletin to specify an inspection of the area behind all of the galley carts. Boeing anticipates release of the revised bulletin in the middle of 2025.

Since the NPRM does not address the unsafe condition and the unsafe condition still exists, the FAA is withdrawing the NPRM and considering additional rulemaking to require the revised service information. The FAA has determined that any new AD will be issued within the timeframe established by the safety assessment.

Withdrawal of the NPRM constitutes only such action and does not preclude the FAA from further rulemaking on this issue, nor does it commit the FAA to any course of action in the future.

Comments

The FAA received comments from United Airlines, the Air Line Pilots Association, International (ALPA), and an individual, who supported the NPRM without change.

The FAA also received a comment from The Boeing Company. The following presents the comment received on the NPRM and the FAA's response to the comment.

Request To Include Model 787-10 Airplanes

Boeing noted that some Model 787-10 airplanes could be in storage or are otherwise inactive and requested that the proposed AD clarify that those airplanes that have not yet met the requirements of AD 2023-08-04 must still meet the inspection requirements of Boeing Alert Requirements Bulletin B787-81205-SB380021-00 RB, Issue 001, dated August 12, 2022.

The FAA agrees that the applicability of the NPRM did not include Model 787-10 airplanes. Those airplanes had been removed from the applicability of the proposed AD because Boeing had originally stated that Model 787-10 airplanes were delivered with safety-strap clamshell couplings on affected potable water lines, so those airplanes were not included in Boeing Requirements Bulletin B787-81205-SB250299-00 RB, Issue 001, dated July 31, 2023 (the service information specified in paragraph (j) of the proposed AD). Accordingly, the NPRM stated that Model 787-10 airplanes were no longer subject to the unsafe condition and therefore not included in the applicability. However, as Boeing stated, there is a possibility that some Model 787-10 airplanes may have been in storage and not inspected as required by AD 2023-08-04 (and restated in retained paragraph (g) of the proposed AD). Therefore, if appropriate, those airplanes will be included in future rulemaking that addresses the unsafe condition. Because the NPRM is withdrawn, no further action is necessary for this NPRM.

FAA's Conclusions

Upon further consideration, the FAA has determined that the NPRM would not adequately address the identified unsafe condition. Accordingly, the NPRM is withdrawn. AD 2023-08-04 remains in effect unless it is later superseded.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (Docket No. FAA-2024-1884), which was published in the Federal Register on July 15, 2024 (89 FR 57374), is withdrawn.

Issued on January 28, 2025.
Suzanne Masterson,
Deputy Director, Integrated Certificate Management Division, Aircraft Certification Service.

[FR Doc. 2025-02069 Filed 2-3-25; 8:45 am]

BILLING CODE 4910-13-P